ENVIRONMENTAL PROTECTION AGENCY

[FRL-6842-1]

Regulatory Reinvention (XLC) Pilot Projects

AGENCY: Environmental Protection Agency (EPA).

ACTION: Notice of availability of City of Columbus, Ohio Project XL for Communities (XLC) Draft Final Project Agreement and Safe Drinking Water Act (SDWA) Draft Variance.

SUMMARY: EPA is today requesting comments on a draft Project XLC Final Project Agreement (FPA) and draft SDWA Variance for the City of Columbus, OH. The FPA is a voluntary agreement developed by the City of Columbus and the State of Ohio Department of Health, the Ohio Environmental Protection Agency, project stakeholders, and U.S. EPA. The SDWA Variance would be the federal legal mechanism used to provide regulatory flexibility to the City of Columbus in the event of a Lead Action Level (LAL) exceedence under the Lead and Copper Rule (LCR). The SDWA Variance would not be effective and the City of Columbus would not be considered to be operating under a SDWA Variance unless and until the City exceeded the LAL.

DATES: The period for submission of comments ends on August 28, 2000.

ADDRESSES: All comments on the draft Final Project Agreement and draft SDWA Variance should be sent to: Miguel Del Toral, Water Division, WD-15J, US EPA Region 5, 77 West Jackson Boulevard, Chicago, IL 60604-3507, or Kristina Heinemann, U.S. EPA, 1200 Pennsylvania Avenue, NW., Mail Code 1802, Washington, DC 20460. Comments may also be faxed to Mr. Del Toral at (312) 886-6171 or Ms. Heinemann at (202) 260-7875. Comments will also be received via electronic mail sent to: deltoral.miguel@epa.gov or heinemann.kristina@epa.gov.

FOR FURTHER INFORMATION CONTACT: To obtain a copy of the draft Final Project Agreement or draft SDWA Variance, contact: Miguel Del Toral Water Division, WD-15J, U.S. EPA Region 5, 77 West Jackson Boulevard, Chicago, IL 60604-3507, or Kristina Heinemann, U.S. EPA, 1200 Pennsylvania Avenue, N.W., Mail Code 1802, Washington, DC 20460. The documents are also available via the Internet at the following location: “http://www.epa.gov/ProjectXL”. In addition, public files on the Project are located at U.S. EPA Region 5 in Chicago, IL. Questions to EPA regarding the documents can be directed to Miguel Del Toral at (312) 886-5253 or Kristina Heinemann at (202) 260-5355. Additional information on Project XL and XLC, including documents referenced in this notice, other EPA policy documents related to Project XL and XLC, application information, and descriptions of existing XL and XLC projects and proposals, is available via the Internet at “http://www.epa.gov/ProjectXL”.

SUPPLEMENTARY INFORMATION: Project XLC, announced in the Federal Register on November 1, 1995 (60 FR 55569), gives regulated sources the flexibility to develop alternative strategies that will replace or modify specific regulatory requirements on the condition that they produce greater environmental benefits.

In the past, the City of Columbus made certain changes to the method it uses to treat drinking water. Inadvertently, the treatment change caused an increase in the level of lead in the drinking water. Under the Federal and State drinking water regulations, if the lead levels rise above the limit established by U.S. EPA and OEPA, the Lead Action Level, the City must begin sampling lead service lines (LSL) immediately and replacing those lines that contribute high levels of lead. See 40 CFR 141.84 and Ohio Administrative Code Rule 3745-81-84.

If implemented, the draft FPA would carry out an XLC project in the City of Columbus to test a potentially more effective means of addressing health concerns from lead through a program run by the Columbus Departments of Health and Trade and Development, the Lead Safe Columbus Program (LSCP), in addition to closer coordination on drinking water treatment issues. Through this Agreement, the US EPA would suspend the LSL sampling and replacement provisions for up to three years beginning if and when the City exceeds the lead limit, provided this occurs within six years of making a drinking water treatment change. In exchange for this regulatory flexibility, the Columbus Division of Water proposes to contribute $300,000 a year for 15 years to the LSCP.

The LSCP provides free blood testing, public education, medical intervention for lead-poisoned children, and grants and loans for lead abatement to residents of Columbus in high-risk areas. The LSCP targets an area consisting of twenty-five high-risk census tracts within ten zip codes in older, predominantly low-income, minority neighborhoods in Columbus, where 84% of all elevated blood lead levels in the City were found.

Under the Safe Drinking Water Act, 42 U.S.C. 300f-300j-26, EPA promulgates national primary drinking water regulations (NPDWRs) which specify for certain drinking water contaminants either a maximum level or treatment technique with which public water systems must comply. EPA has promulgated a NPDWR for lead and copper that consists of a treatment technique requiring public water systems to take various steps to ensure that users of public water systems are not exposed to levels of lead and copper in drinking water that would result in adverse health effects.

The State of Ohio has primary enforcement responsibility for administering the Lead and Copper Rule (LCR) because it has adopted regulations that are at least as stringent as the federal regulation. The State regulation currently applies to the City of Columbus's public water system. The federal government however has the authority to grant a variance under section 1415(a)(3) of the SDWA, 42 U.S.C. 300g-4 and believes that a variance would be the appropriate legal mechanism for this XLC project.

U.S. EPA has determined that the Columbus XLC Project has merit, and believes that a SDWA variance would be the appropriate legal mechanism for providing the City of Columbus the regulatory flexibility the City has requested through Project XLC.

The SDWA Variance, which will become effective only if the City of Columbus actually experiences a Lead AL exceedence, will provide the City with a temporary suspension of the LSL sampling and replacement requirements while it makes water treatment modifications. EPA has tentatively determined that the City's approach of enhanced coordination under the Lead and Copper Rule will be at least as efficient in lowering the level of lead delivered to users of the public water system as the current regulation. In addition the LSCP would provide additional public health benefits by providing free blood testing, public education, medical intervention for lead poisoned children, and grants and loans for lead abatement to residents of Columbus in high risk areas.

Dated: July 21, 2000.
Christopher Knopes,
Acting Director, Office of Environmental Policy Innovation.

[FR Doc. 00-19012 Filed 7-26-00; 8:45 am]

BILLING CODE 6560-50-P